ENVIRONMENTAL PROTECTION AGENCY

[ER-FRL-9006-4]

Environmental Impacts Statements; Notice of Availability

Responsible Agency: Office of Federal Activities, General Information (202) 564-7146 or http://www.epa.gov/compliance/nepa/.

Weekly receipt of Environmental Impact Statements.

Filed 11/26/2012 Through 11/30/2012.

Pursuant to 40 CFR 1506.9.

Notice

Section 309(a) of the Clean Air Act requires that EPA make public its comments on EISs issued by other Federal agencies. EPA's comment letters on EISs are available at: http://www.epa.gov/compliance/nepa/eisdata.html.

Supplementary Information: As of October 1, 2012, EPA will not accept paper copies or CDs of EISs for filing purposes; all submissions on or after October 1, 2012 must be made through e-NEPA.

While this system eliminates the need to submit paper or CD copies to EPA to meet filing requirements, electronic submission does not change requirements for distribution of EISs for public review and comment. To begin using e-NEPA, you must first register with EPA'selectronic reporting site— https://cdx.epa.gov/epa_home.asp.

EIS No. 20120374, Draft EIS, NOAA, 00, Amendment 5 to the Consolidated Atlantic Highly Migratory Species Fishery Management Plan, Atlantic Ocean, Caribbean Sea, and Gulf of Mexico, Comment Period Ends: 02/12/2013, Contact: Peter Cooper 301-427-8503. Due to an oversight, the above document should have appeared in the 11/23/2012 FR Notice.

EIS No. 20120375, Draft EIS, FHWA, FL, U.S. 301 (State Road 200) CR 227 to CR 233, Improvements, Bradford County, FL, Comment Period Ends: 01/22/2013, Contact: Joseph Sullivan 850-553-2248.

EIS No. 20120376, Draft EIS, USFWS, AZ, Pima County Multi-Species Conservation Plan, Pima County, AZ, Comment Period Ends: 03/15/2013, Contact: Jeff Servoss 520-670-6150, ext. 231

EIS No. 20120377, Draft EIS, RUS, ND, Antelope Valley Station to Neset Transmission Project, Mercer, Dunn, Billings, Williams, McKenzie, and Mountrail Counties, ND, Comment Period Ends: 01/22/2013, Contact: Dennis Rankin 202-720-1953.

EIS No. 20120378, Draft EIS, USACE, OK, Eufaula Lake Shoreline Management Plan Revision and Master Plan Supplement, Pittsburg, McIntosh, Haskell, Latimer, Muskogee, and Okmulgee Counties, OK, Comment Period Ends: 01/22/2013, Contact: Jeff Knack 918-669-7666.

Amended Notices

EIS No. 20120320, Draft EIS, FTA, MN, Southwest Transitway Construction and Operation Light Rail Transit, Hennepin County, MN, Comment Period Ends: 12/31/2012, Contact: Marisol Simon 312-353-2789.

Revision to FR Notice Published 10/12/2012; Extending Comment Period from 12/11/2012 to 12/31/2012.

Dated: December 4, 2012.
Cliff Rader,
Director, NEPA Compliance Division, Office of Federal Activities.

[FR Doc. 2012-29685 Filed 12-6-12; 8:45 am]

BILLING CODE 6560-50-P